DEPARTMENT OF THE TREASURY

Performance Review Board

AGENCY: Department of the Treasury.

ACTION: Notice.

SUMMARY: This notice lists the membership to the Departmental Offices' Performance Review Board (PRB) and supersedes the list published in Federal Register page 47230, Vol. 64, No. 167, dated August 30, 1999, in accordance with 5 U.S.C. 4314(c)(4). The purpose of the PRB is to review the performance of members of the Senior Executive Service and make recommendations regarding performance ratings, performance awards, and other personnel actions.

The names and titles of the PRB members are as follows:

Joan Affleck-Smith, Director, Office of Financial Institutions Policy

Steven O. App, Deputy Chief Financial Officer

Gregory A. Baer, Assistant Secretary (Financial Institutions)

Edwin L. Barber, Senior Advisor, Office of African Nations

Roger H. Bezdek, Senior Advisor for Fiscal Management

Elisabeth A. Bresee, Assistant Secretary (Enforcement)

Mary E. Chaves, Director, Office of International Trade

Marcia H. Coates, Director, Office of Equal Opportunity Program

Neal C. Comstock, Executive Secretary

Lynda Y. De La Vina, Deputy Assistant Secretary (Policy Coordination)

Edward J. DeMarco, Director, Office of Government Sponsored Enterprise Policy

Kay Frances Dolan, Deputy Assistant Secretary (Human Resources)

Joseph B. Eichenberger, Director, Office of Multilateral Development Banks

James H. Fall, III, Deputy Assistant Secretary (Technical Assistance Policy)

James J. Flyzik, Deputy Assistant Secretary (Information Systems) and Chief Information Officer

Geraldine A. Gerardi, Director for Business Taxation

Ronald A. Glaser, Director, Office of Personnel Policy

John C. Hambor, Director, Office of Policy Analysis

Donald V. Hammond, Fiscal Assistant Secretary

Barry K. Hudson, Director, Office of Financial Management

Ellen W. Lazar, Director, CDFI Fund

David A. Lebryk, Deputy Assistant Secretary (Fiscal Operations and Policy)

Nancy Lee, Director, Office of Central and Eastern European Nations

James R. Lingebach, Director, Office of Accounting and Internal Control

Wesley W. McGrew, Director, Office of Latin American and Caribbean Nations

Mark C. Medish, Deputy Assistant Secretary (Eurasia and Middle East)

Carl L. Moravitz, Director, Office of Budget

William C. Murden, Director, Office of International Banking and Securities Markets

John M. Murphy, Director, Office of Strategic Planning

Robert R. Newcomb, Director, Office of Foreign Assets Control

Joel D. Platt, Director, for Revenue Estimating

Lisa G. Ross, Acting Assistant Secretary for Management and Chief Financial Officer

Lewis A. Sachs, Assistant Secretary (Financial Markets)

William E. Schuerch, Deputy Assistant Secretary (International Development, Debt and Environment Policy)

G. Dale Seward, Director, Automated Systems Division

Mary Beth Shaw, Director, Office of DC Pensions Project Office

Gay H. Sills, Director, Office of International Investment

John P. Simpson, Deputy Assistant Secretary (Regulatory, Trade and Tariff Enforcement)

Jane L. Sullivan, Director, Information Technology Policy and Management

Jonathan Talisman, Acting Assistant Secretary (Tax Policy)

Karen A. Wehner, Deputy Assistant Secretary (Law Enforcement)

Thomas C. Wiesner, Director, Corporate Systems Management

David W. Wilcox, Assistant Secretary (Economic Policy)

FOR FURTHER INFORMATION CONTACT: Barbara A. Hagle, Executive Secretary, PRB, U.S. Department of the Treasury, 1500 Pennsylvania Avenue, NW, Room 6109, Metropolitan Square, Washington, DC 20220. Telephone: (202) 622-2209. This notice does not meet the Department's criteria for significant regulations.

Lisa Ross,
Acting Assistant Secretary for Management and Chief Financial Officer.

[FR Doc. 00-23086 Filed 9-7-00; 8:45 am]

BILLING CODE 4810-25-M